DEPARTMENT OF ENERGY

Federal Energy Regulatory Commission

[Project No. 4632-032]

Clifton Power Corporation; Commissioner of Public Works of the City of Spartanburg, SC; Notice of Application for Transfer of License and Soliciting Comments and Motions To Intervene

January 7, 2010.

On November 4, 2009, Commissioner of Public Works of the City of Spartanburg, South Carolina (Applicant) filed an application for an involuntary transfer of license of the Clifton Mills #1 Hydroelectric Project No. 4632 located on the Pacolet River, in Spartanburg County, South Carolina.

The Applicant states it acquired the Clifton Mills #1 Hydroelectric Project from Clifton Power Corporation through foreclosure and seeks Commission approval for the involuntary transfer of the license for the project from Clifton Power Corporation to the Applicant.

Applicant Contacts: Ms. Sue G. Schneider, General Manager, Spartanburg Water, P.O. Box 251, Spartanburg, SC 29304, (864) 580-5647, e-mail sschneider@sws-sssd.org and Ms. Elizabeth W. Whittle, Nixon Peabody, LLP, 401 Ninth Street, NW., Suite 900, Washington, DC 20004, (202) 585-8338, e-mail: ewhittle@nixonpeabody.com.

FERC Contact: Patricia W. Gillis, (202) 502-8735.

Deadline for filing comments and motions to intervene: 30 days from the issuance of this notice. Comments and motions to intervene may be filed electronically via the Internet. See 18 CFR 385.2001(a)(1)(iii)(2008) and the instructions on the Commission's website under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the eLibrary link of the Commission's Web site at http://www.ferc.gov/docs-filing/elibrary.asp. Enter the docket number (P-4632-032) in the docket number field to access the document. For assistance, call toll-free 1-866-208-3372.

Kimberly D. Bose,
Secretary.

[FR Doc. 2010-535 Filed 1-13-10; 8:45 am]

BILLING CODE 6717-01-P